DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by January 22, 2002.

Title and OMB Number: Department of Defense Education Activity (DoDEA) Customer Satisfaction Survey for Parents and Students; OMB Number 0704-[To Be Determined].

Type of Request: New Collection.

Number of Respondent: 7,275.

Responses Per Respondent: 1.

Annual Responses: 7,275.

Average Burden Per Response: 15 minutes.

Annual Burden Hours: 2,001.

Needs and Uses: The DoDEA Customer Satisfaction Survey will be administered to all parents and teachers within the DoDEA school system, as well as students in grades 4-12. The survey is completely voluntary and will be administered through an on-line, web-based technology. The survey questions were adapted from the Phi Delta Kappa/Gallup Poll of the Public's Attitudes Toward Schools in order to have national comparison data. The survey will give parents, students, and teachers an opportunity to comment on their level of satisfaction with programmatic issues related to DoD schools. Some topics included on the survey are curriculum, communication, and technology. The surveys will be administered biennially. The information derived from this survey will be used in the improvement planning efforts at all levels throughout DoDEA.

Affected Public: Individuals or Households.

Frequency: Biennially.

Respondents Obligation: Voluntary.

OMB Desk Officer: Mr. Edward C. Springer.

Written comments and recommendations on the proposed information collection should be sent to Mr. Springer at the Office of Management and Budget, Desk Officer for DoD, Room 10236, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: December 17, 2001.
Patricia L. Toppings,
Alternate OSD Federal Register Liaison Officer, Department of Defense.

[FR Doc. 01-31417 Filed 12-20-01; 8:45 am]

BILLING CODE 5001-08-M